DEPARTMENT OF ENERGY

Federal Energy Regulatory Commission

[Docket No. IC12-1-000]

Commission Information Collection Activities (FERC-725F); Comment Request; Extension

AGENCY: Federal Energy Regulatory Commission, Department of Energy.

ACTION: Notice of proposed information collection and request for comments.

SUMMARY: In compliance with the requirements of section 3506(c)(2)(A) of the Paperwork Reduction Act of 1995, 44 U.S.C. 3506(c)(2)(A) (2006), (Pub. L. No. 104-13), the Federal Energy Regulatory Commission (Commission or FERC) is soliciting public comment on the proposed information collection described below.

DATES: Comments in consideration of the collection of information are due December 30, 2011.

ADDRESSES: Comments may be filed either electronically (eFiled) or in paper format, and should refer to Docket No. IC12-1-000. Documents must be prepared in an acceptable filing format and in compliance with Commission submission guidelines at: http://www.ferc.gov/help/submission-guide.asp. eFiling instructions are available at: http://www.ferc.gov/docs-filing/efiling.asp. First-time users must follow eRegister instructions at: http://www.ferc.gov/docs-filing/eregistration.asp, to establish a user name and password before eFiling. The Commission will send an automatic acknowledgement to the sender's email address upon receipt of eFiled comments. Commenters making an eFiling should not make a paper filing. Commenters that are not able to file electronically must send an original of their comments to: Federal Energy Regulatory Commission, Secretary of the Commission, 888 First Street NE., Washington, DC 20426.

Users interested in receiving automatic notification of activity in this docket may do so through eSubscription at: http://www.ferc.gov/docs-filing/esubscription.asp. All comments and FERC issuances may be viewed, printed or downloaded remotely through FERC's eLibrary at: http://www.ferc.gov/docs-filing/elibrary.asp, by searching on Docket No. IC12-1. For user assistance, contact FERC Online Support by email at ferconlinesupport@ferc.gov, or by phone at: (866) 208-3676 (toll-free), or (202) 502-8659 for TTY.

FOR FURTHER INFORMATION: Ellen Brown may be reached by email at: DataClearance@FERC.gov, telephone at: (202) 502-8663, and fax at: (202) 273-0873.

SUPPLEMENTARY INFORMATION: The information collected by the FERC-725F, “Mandatory Reliability Standard for Nuclear Plant Interface Coordination” (OMB Control No. 1902-0249), is required to implement the statutory provisions of section 215 of the Federal Power Act (FPA) (16 U.S.C. 824o). On August 8, 2005, the Electricity Modernization Act of 2005, which is Title XII, Subtitle A, of the Energy Policy Act of 2005 (EPAct 2005), was enacted into law.¹ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (2005), 16 U.S.C. 824o.

² 16 U.S.C. 824o(e)(3).

On February 3, 2006, the Commission issued Order No. 672, implementing section 215 of the FPA.³ Pursuant to Order No. 672, the Commission certified one organization, North American Electric Reliability Corporation (NERC), as the ERO. The Reliability Standards developed by the ERO and approved by the Commission apply to users, owners and operators of the Bulk-Power System, as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

On November 19, 2007, NERC filed its petition for FERC approval of the Nuclear Plant Interface Coordination Reliability Standard, designated NUC-001-1. In Order No. 716, issued October 16, 2008, the Commission approved the standard while also directing certain revisions.⁴ Revised Reliability Standard, NUC-001-2, was filed with the Commission by NERC in August 2009 and subsequently approved by the Commission January 21, 2010.⁵

⁴ Mandatory Reliability Standard for Nuclear Plant Interface Coordination, Order No. 716, 125 FERC ¶ 61,065, at P 189 & n.90 (2008), order on reh'g, Order No. 716-A, 126 FERC ¶ 61,122 (2009).

⁵ North American Electric Reliability Corporation, 130 FERC ¶ 61,051 (2010). When the revised Reliability Standard was approved the Commission did not go to OMB for approval. It is assumed that the changes made did not substantively affect the information collection and therefore a formal submission to OMB was not needed.

The purpose of Reliability Standard NUC-001-2 is to require “coordination between nuclear plant generator operators and transmission entities for the purpose of ensuring nuclear plant safe operation and shutdown.” ⁶ The Nuclear Reliability Standard applies to nuclear plant generator operators (generally nuclear power plant owners and operators, including licensees) and “transmission entities,” defined in the Reliability Standard as including a nuclear plant's suppliers of off-site power and related transmission and distribution services. To account for the variations in nuclear plant design and grid interconnection characteristics, the Reliability Standard defines transmission entities as “all entities that are responsible for providing services related to Nuclear Plant Interface Requirements (NPIRs),” and lists eleven types of functional entities (heretofore described as “transmission entities”) that could provide services related to NPIRs.⁷

⁶ See Reliability Standard NUC-001-2 at http://www.nerc.com/files/NUC-001-2.pdf.

⁷ The list of functional entities consists of transmission operators, transmission owners, transmission planners, transmission service providers, balancing authorities, reliability coordinators, planning authorities, distribution providers, load-serving entities, generator owners and generator operators.

Reliability Standard NUC-001-2 requires a nuclear power plant operator and its suppliers of back-up power and related transmission and distribution services to coordinate concerning nuclear licensing requirements for safe nuclear plant operation and shutdown and system operating limits. Information collection requirements include establishing and maintaining interface agreements, including record retention requirements.

ACTION: The Commission is requesting a three-year extension of the FERC-725F reporting requirements, with no changes to the requirements.

Burden Statement ⁸

⁸ The burden estimates for this renewal have been generated based on actual FERC staff experience in developing and modifying agreements pursuant to NUC-001-2. The Commission considers this burden estimate more accurate than was previously approved by OMB.

⁹ This figure of 130 transmission entities is based on the assumption that each agreement will be between 1 nuclear plant and 2 transmission entities (65 times 2 = 130). However, there is some double counting in this figure because some transmission entities may be party to multiple agreements with multiple nuclear plants. The double counting does not affect the burden estimate and the correct number of unique respondents will be reported to OMB.

The Commission estimates that the total universe of respondents for this collection is 143 unique entities. This includes 26 unique owners of nuclear facilities and 117 transmission entities that provide services related to NPIRs. FERC also estimated that there are 65 unique nuclear plant sites involved in this collection. In order to estimate the burden the Commission considered two categories: Establishing new agreements; and making modifications to existing agreements.

The Commission assumes there may be as many as 10 new agreements established each year. Because applicable entities should already be in compliance with NUC-001-2 (meaning that all nuclear sites should already have agreements in place), new agreements would only come about due to company mergers or new interconnections between nuclear plant sites and other entities. FERC further assumes that each agreement involves one nuclear plant site and an average of two transmission entities.

For modifications to existing agreements the Commission assumes that each nuclear plant site will be required to make up to two modifications a year to existing agreements. Because the Commission assumes that each agreement involves an average of two transmission entities, the burden for this category also includes two transmission entities per nuclear plant site (or 130 in total). FERC estimates that some of these transmission entities are involved in multiple agreements (as stated above, the number of unique transmission entities is estimated at 117).

The burden information is summarized in the following table.

Data collection | Number of respondents annually (1) | Number of responses (documents) (2) | Average burden hours per response (3) | Total annual burden hours (1) × (2) × (3)
FERC-725F:
New agreements | 10 nuclear operators + 20 transmission entities | 1 | Reporting: 1,080 Recordkeeping: 108 | Reporting: 32,400. Recordkeeping: 3,240.
Modifications to agreements | 65 nuclear plants + 130 transmission entities.⁹ | 2 | Reporting: 67 (rounded) Recordkeeping: 7 (rounded) | Reporting: 26,000. Recordkeeping: 2,600.
Total | Not applicable (see text for discussion) | Not applicable | Not applicable | 64,240.

The average annualized cost is estimated to be the total annual hours (Reporting) ¹⁰—58,400 hours times $120/hour = $7,008,000, plus the total annual hours (Recordkeeping) ¹¹—5,840 times $28/hour = $163,520, plus the record storage cost ¹²—143 entities times $15.25 per year per entity = $2,181 (rounded), which is $7,173,701.

¹⁰ The $120/hour figure is a combined average of legal, technical and administrative staff.

¹¹ The $28/hour figure is based on a FERC staff study that included estimating public utility recordkeeping costs.

¹² This is based on the estimated cost to service and store 1 GB of data (based on the aggregated cost of an IBM advanced data protection server).

The Commission believes that this estimate is conservative because multiple plants are located on certain sites, and one entity may operate multiple plants, providing for potential economies in updating, drafting and executing the interface agreements.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology (e.g. permitting electronic submission of responses).

Dated: October 25, 2011.
Kimberly D. Bose,
Secretary.

[FR Doc. 2011-28087 Filed 10-28-11; 8:45 am]

BILLING CODE 6717-01-P